DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Mobile County, Alabama, and Incorporated Areas
Docket No.: FEMA-B-7732
Branch B | Approximately 2,900 feet downstream of Golfway Street | +87 | City of Mobile, City of Prichard.
| Approximately 3,300 feet downstream of Golfway Street | +172
Branch C | Approximately 50 feet downstream of U.S. Route 45 | +42 | City of Prichard.
| Approximately 1,200 feet upstream of West Meyers Road | +91
Branch D | Approximately 100 feet downstream of West Meyers Road | +56 | City of Prichard.
| Approximately 500 feet upstream of Cochran Road | +117
Branch D Tributary | At the confluence with Branch D | +88 | City of Prichard.
| Approximately 1,100 feet upstream of the confluence with Branch D | +127
Branch E | Approximately 2,100 feet upstream of the confluence with Eightmile Creek | +18 | City of Prichard.
| Approximately 1,800 feet upstream of Aldock Road | +35
Branch F | Approximately 1,100 feet upstream of the confluence with Eightmile Creek | +15 | City of Prichard.
| Approximately 3,800 feet upstream of the confluence with Eightmile Creek | +32
Branch G | Approximately 800 feet downstream of West Main Street | +28 | City of Prichard.
| Approximately 250 feet upstream of Wolf Ridge Road | +44
Gum Tree Branch | Approximately 100 feet upstream of Turner Road | +25 | City of Prichard.
| Approximately 600 feet upstream of Caledonia Street | +29
Miller Creek | Approximately 2,600 feet upstream of Snow Road | +153 | Unincorporated Areas of Mobile County.
| Approximately 12,420 feet upstream of Snow Road | +183
Unnamed Branch | Approximately 100 feet downstream of Bear Fork Road | +88 | City of Prichard.
| Approximately 1,100 feet upstream of Forrest Park Road | +149
* National Geodetic Vertical Datum.
+ North American Vertical Datum.
# Depth in feet above ground.
‸ Mean Sea Level, rounded to the nearest 0.1 meter.
ADDRESSES
City of Mobile
Maps are available for inspection at 205 Government Street, 3rd Floor, Mobile, AL 36602.
City of Prichard
Maps are available for inspection at 216 East Prichard Avenue, Mobile, AL 36610.
Unincorporated Areas of Mobile County
Maps are available for inspection at 1110 Schillinger Road, Suite 100, Mobile, AL 36608.
Madison County, Mississippi, and Incorporated Areas
Docket No.: FEMA-B-1022
Bear Creek | 9,400 feet upstream of Weiss Road | +266 | Unincorporated Areas of Madison County.
| 1,600 feet downstream of Reunion Parkway | +287
Beaver Creek | 400 feet upstream of U.S. Route 51 | +316 | City of Ridgeland.
| 400 feet upstream of Planters Grove | +323
Brashear Creek | 1,800 feet downstream of Grandview Boulevard | +328 | City of Madison, Unincorporated Areas of Madison County.
| 100 feet upstream of Highland Colony Parkway | +350
Panther Creek | 1,800 feet upstream of Stokes Road | +214 | Unincorporated Areas of Madison County. City of Ridgeland.
| 5,000 feet downstream of Catlett Road | +240
Purple Creek | 2,000 feet downstream of U.S. Route 51 | +314 |
| 1,500 feet downstream of I-55 | +332
Reunion Lake #1 | Entire shoreline | +327 | Unincorporated Areas of Madison County.
Reunion Lake #2 | Entire shoreline | +327 | Unincorporated Areas of Madison County.
School Creek | 500 feet upstream of Old Canton Road | +298 | City of Ridgeland.
| 1,100 feet downstream of Lake Harbour Drive | +309
School Creek Tributary 1 | 600 feet downstream of Lake Harbour Drive | +312 | City of Ridgeland.
| 700 feet upstream of Wendover Way | +328
School Creek Tributary 2 | 750 feet downstream of Camellia Lane | +325 | City of Ridgeland.
| 350 feet downstream of Camellia Lane | +328
Stream 0 | 200 feet upstream of I-55 | +270 | Unincorporated Areas of Madison County.
| 200 feet downstream of Gluck­stadt Road | +272
Stream Q | 1,800 feet upstream of I-55 | +274 | Unincorporated Areas of Madison County.
| 800 feet upstream of Gluckstadt Road | +295
Stream R | 4,500 feet downstream of Dewees Road | +299 | Unincorporated Areas of Madison County.
| 1,100 feet downstream of Dewees Road | +304
White Oak Creek Tributary 1 | 250 feet upstream of Oakhurst Trail | +360 | City of Ridgeland.
| 600 feet downstream of Bridgewater Road | +375
* National Geodetic Vertical Datum.
+ North American Vertical Datum.
# Depth in feet above ground.
‸ Mean Sea Level, rounded to the nearest 0.1 meter.
ADDRESSES
City of Madison
Maps are available for inspection at 525 Post Oak Road, Madison, MS 39110.
City of Ridgeland
Maps are available for inspection at 304 U.S. Route 51, Ridgeland, MS 39157.
Unincorporated Areas of Madison County
Maps are available for inspection at 146 West Center Street, Canton, MS 39046.

* (Catalog of Federal Domestic Assistance No. 97.022, “Flood Insurance.”)

Dated: March 3, 2010.
Sandra K. Knight,
Deputy Federal Insurance and Mitigation Administrator, Mitigation, Department of Homeland Security, Federal Emergency Management Agency.

[FR Doc. 2010-5233 Filed 3-10-10; 8:45 am]

BILLING CODE 9110-12-P